DEPARTMENT OF ENERGY

Federal Energy Regulatory Commission

Combined Notice of Filings

Take notice that the Commission has received the following Natural Gas Pipeline Rate and Refund Report filings:

Filings Instituting Proceedings

Docket Numbers: PR16-12-001.

Applicants: Columbia Gas of Maryland, Inc.

Description: Tariff filing per 284.123(b)(1): PR16-12 CMD Amended SOC to be effective 1/1/2015; Filing Type: 1000.

Filed Date: 2/22/16.

Accession Number: 201602225223.

Comments/Protests Due: 5 p.m. ET 3/14/16.

Docket Numbers: PR16-13-001.

Applicants: Columbia Gas of Ohio, Inc.

Description: Tariff filing per 284.123(b)(1): COH Amended SOC PR16-13 to be effective 4/30/2015; Filing Type: 1000.

Filed Date: 2/22/16.

Accession Number: 201602225181.

Comments/Protests Due: 5 p.m. ET 3/14/16.

Docket Numbers: PR16-26-000.

Applicants: Enable Oklahoma Intrastate Transmission, LLC.

Description: Tariff filing per 284.123(b)(2) +(g): EOIT Petition for Section 311 Rate Approval to be effective 4/1/2016; Filing Type: 1310.

Filed Date: 2/19/16.

Accession Number: 201602195134.

Comments Due: 5 p.m. ET 3/11/16.

284.123(g) Protests Due: 5 p.m. ET 4/19/16.

Docket Numbers: RP16-622-000.

Applicants: Natural Gas Pipeline Company of America.

Description: § 4(d) Rate Filing: BG Energy Negotiated Rate to be effective 4/1/2016.

Filed Date: 2/23/16.

Accession Number: 20160223-5062.

Comments Due: 5 p.m. ET 3/7/16.

Docket Numbers: RP16-623-000.

Applicants: Natural Gas Pipeline Company of America.

Description: § 4(d) Rate Filing: Nicor Negotiated Rate to be effective 4/1/2016.

Filed Date: 2/23/16.

Accession Number: 20160223-5078.

Comments Due: 5 p.m. ET 3/7/16.

Docket Numbers: RP16-624-000.

Applicants: MoGas Pipeline LLC.

Description: § 4(d) Rate Filing: MoGas Negotiated Rate Agreement Waynesville Filing to be effective 3/1/2016.

Filed Date: 2/23/16.

Accession Number: 20160223-5087.

Comments Due: 5 p.m. ET 3/7/16.

Docket Numbers: RP16-625-000.

Applicants: Northern Natural Gas Company.

Description: § 4(d) Rate Filing: 20160222 Housekeeping Filing to be effective 4/1/2016.

Filed Date: 2/23/16.

Accession Number: 20160223-5149.

Comments Due: 5 p.m. ET 3/7/16.

Docket Numbers: RP16-626-000.

Applicants: Southern Star Central Gas Pipeline, Inc.

Description: § 4(d) Rate Filing: Fuel Filing—Eff. April 1, 2016 to be effective 4/1/2016.

Filed Date: 2/24/16.

Accession Number: 20160224-5026.

Comments Due: 5 p.m. ET 3/7/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-597-001.

Applicants: Tallgrass Interstate Gas Transmission, L.

Description: Compliance filing Compliance to 587-W Amendment to be effective 4/1/2016.

Filed Date: 2/23/16.

Accession Number: 20160223-5105.

Comments Due: 5 p.m. ET 3/7/16.

Docket Numbers: RP16-598-001.

Applicants: Rockies Express Pipeline LLC.

Description: Compliance filing Compliance with Order No. 587-W Amendment to be effective 4/1/2016.

Filed Date: 2/23/16.

Accession Number: 20160223-5104.

Comments Due: 5 p.m. ET 3/7/16.

Docket Numbers: RP16-599-001.

Applicants: Trailblazer Pipeline Company LLC.

Description: Compliance filing Order 587-W Amendment to be effective 4/1/2016.

Filed Date: 2/23/16.

Accession Number: 20160223-5109.

Comments Due: 5 p.m. ET 3/7/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2016.
Nathaniel J. Davis, Sr.,
Deputy Secretary.

[FR Doc. 2016-04652 Filed 3-2-16; 8:45 am]

BILLING CODE 6717-01-P